POSTAL REGULATORY COMMISSION

[Docket No. CP2022-34; Order No. 6190]

Inbound Competitive Multi-Service Agreements With Foreign Postal Operators

AGENCY: Postal Regulatory Commission.

ACTION: Notice.

SUMMARY: The Commission is recognizing a recent Postal Service filing of a change in certain inbound rates under the Competitive Multi-Service Agreements with Foreign Postal Operators 1 product to be effective January 1, 2023. This notice informs the public of the filing, invites public comment, and takes other administrative steps.

DATES: Comments are due: June 21, 2022.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Commission Action

III. Ordering Paragraphs

I. Introduction

On June 3, 2022, the Postal Service filed a notice with the Commission pursuant to 39 CFR 3035.105 and Order No. 546, giving notice of modifications to certain inbound rates under the Competitive multi-product “Interconnect Remuneration Agreement USPS and Specified Postal Operators II” (IRA-USPS II Agreement).¹ The IRA-USPS II Agreement is included within the Competitive Multi-Service Agreements with Foreign Postal Operators 1 product.²

¹ Notice of the United States Postal Service of Filing Modifications to Rates Under Inbound Competitive Multi-Service IRA-USPS II Agreement with Materials Filed Under Seal, June 3, 2022 (Notice). Docket Nos. MC2010-34 and CP2010-95, Order Adding Inbound Competitive Multi-Service Agreements with Foreign Postal Service Operators 1 to the Competitive Product List and Approving Included Agreement, September 29, 2010 (Order No. 546).

² Order Approving Additional Inbound Competitive Multi-Service Agreement with Foreign Postal Operators, December 23, 2021 (Order No. 6074).

Parties to the IRA-USPS II Agreement may self-declare their delivery rates within defined parameters by communicating revised rates to the International Post Corporation by July 15 of the year preceding their application.³ The modifications proposed in the Notice are intended to take effect on January 1, 2023. Notice at 2.

³ Notice of United States Postal Service of Filing Functionally Equivalent Inbound Competitive Multi-Service Agreement with Foreign Postal Operators, December 8, 2021, Attachment 2 at 21-23.

Concurrent with the Notice, the Postal Service has filed a certified statement concerning the modified rates under the IRA-USPS II Agreement and supporting financial documentation. Id. at 2-3, Attachment 1. The Postal Service also requests that the Commission continue to grant its Application for Non-Public Treatment, which was filed with the Postal Service's initial notice and is incorporated by reference. Notice at 3.

The Commission will review the proposed IRA-USPS II Agreement rates to ensure that the Inbound Competitive Multi-Service Agreements with Foreign Postal Operators 1 product continues to cover its attributable costs, does not cause Market Dominant products to subsidize Competitive products as a whole, and contributes to the Postal Service's institutional costs. 39 U.S.C. 3633(a); 39 CFR 3035.105 and 3035.107.

II. Commission Action

The Commission seeks public comments from interested persons on whether the Postal Service's Notice concerning the IRA-USPS II Agreement is consistent with 39 U.S.C. 3633 and 39 CFR 3035.105. Comments are due by June 21, 2022.

The Notice and related filings are available on the Commission's website (http://www.prc.gov). The Commission encourages interested persons to review the Notice for further details.

The Commission appoints Kenneth R. Moeller to serve as Public Representative in this proceeding.

III. Ordering Paragraphs

It is ordered:

1. The Commission seeks public comment from interested persons on whether the Notice of the United States Postal Service of Filing Modifications to Rates Under Inbound Competitive Multi-Service IRA-USPS II Agreement with Materials Filed Under Seal, filed June 3, 2022, is consistent with 39 U.S.C. 3633 and 39 CFR 3035.105.

2. Pursuant to 39 U.S.C. 505, Kenneth R. Moeller is appointed to serve as an officer of the Commission (Public Representative) to represent the interests of the general public in this proceeding.

3. Comments by interested persons are due by June 21, 2022.

4. The Secretary shall arrange for publication of this order in the Federal Register.

By the Commission.
Erica A. Barker,
Secretary.

[FR Doc. 2022-12503 Filed 6-9-22; 8:45 am]

BILLING CODE 7710-FW-P